DEPARTMENT OF THE INTERIOR

National Park Service

[NPS-USPP-13253; PPWOUSPPS1, PPMPRPP02.Y00000]

Proposed Information Collection; United States Park Police Personal History Statement

AGENCY: National Park Service, Interior.

ACTION: Notice; request for comments.

SUMMARY: We (National Park Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on January 31, 2014. We may not conduct or sponsor and a person is not required to respond to a collection of information unless it displays a currently valid OMB control number.

DATES: To ensure that we are able to consider your comments on this IC, we must receive them by October 28, 2013.

ADDRESSES: Send your comments on the IC to Madonna L. Baucum, Information Collection Clearance Officer, National Park Service, 1849 C Street NW. (Mail Stop 2601), Washington, DC 20240 (mail); or madonna_baucum@nps.gov (email). Please include “1024-0245” in the subject line of your comments.

FOR FURTHER INFORMATION CONTACT: To request additional information about this IC, contact Major Scott Fear, United States Park Police, 1100 Ohio Drive SW., Washington, DC 20242 (mail); or at Scott_Fear@nps.gov (email); or at (202) 610-3529 (telephone).

SUPPLEMENTARY INFORMATION:

I. Abstract

The United States Park Police (USPP) is a unit of the National Park Service, Department of the Interior, with jurisdiction in all National Park Service areas and certain other Federal and State lands. The USPP are highly trained, professional police officers who prevent and detect criminal activity; conduct investigations; apprehend individuals suspected of committing offenses against Federal, State, and local laws; provide protection to the President of the United States and visiting dignitaries; and provide protective services to some of the most recognizable monuments and memorials in the world.

Applicants for USPP officer positions must complete and pass a competitive written examination, an oral interview, a medical examination and psychological evaluation, and a battery of physical fitness and agility tests. As part of this application process, we use USPP Form 1 (United States Park Police Personal History Statement) to collect detailed personal history information from applicants. Investigators verify the information provided, and we use it to determine an applicant's suitability for a USPP officer position. The information we collect includes, but is not limited to:

• Personal background information, including financial data and residence history.

• Selective Service information and military data.

• References.

• Education and employment information.

• Driving record, arrest/conviction data, and criminal history information.

• Gambling information.

• Miscellaneous information, such as firearm permits, special skills, other languages, hobbies and interests, other enforcement agencies where applicant applied, and whether or not applicant previously applied for a USPP officer position.

II. Data

OMB Control Number: 1024-0245.

Title: United States Park Police Personal History Statement.

Form Number(s): USPP Form 1.

Type of Request: Extension of a currently approved collection.

Description of Respondents: Candidates for employment as a police officer.

Respondent's Obligation: Required to obtain or retain a benefit.

Frequency of Collection: On occasion.

Estimated Annual Number of Responses: 1,000.

Estimated Completion Time per Response: 8 hours.

Estimated Total Annual Burden Hours: 8,000.

Estimated Annual Nonhour Cost Burden: $11,100, primarily for costs associated printing and notarizing application.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: August 23, 2013.
Madonna L. Baucum,
Information Collection Clearance Officer, National Park Service.

[FR Doc. 2013-21092 Filed 8-28-13; 8:45 am]

BILLING CODE 4310-EH-P